DEPARTMENT OF JUSTICE

Office of Juvenile Justice and Delinquency Prevention

[OJP (OJJDP)—1366]

Drug-Free Communities Support Program

AGENCY: Office of National Drug Control Policy, Executive Office of the President, and Office of Justice Programs, Office of Juvenile Justice and Delinquency Prevention, Justice.

ACTION: Notice of funding availability.

SUMMARY: The Executive Office of the President, Office of National Drug Control Policy (ONDCP), and the U.S. Department of Justice, Office of Juvenile Justice and Delinquency Prevention (OJJDP), are requesting applications for the fiscal year 2003 Drug-Free Communities Support Program to reduce substance abuse among youth and, over time, among adults. Approximately 150 grants of up to $100,000 each will be awarded to community coalitions that are working to prevent and reduce substance abuse among youth.

DATES: Applications must be received by March 11, 2003.

ADDRESS: All applications must be completed online using OJP's Grants Management System (ojp.usdoj.gov/fundopps.htm). Faxed or e-mailed applications will not be accepted. Interested applicants can access the program announcement for the FY 2003 Drug-Free Communities Support Program at OJJDP's Web site (ojjdp.ncjrs.org, click on “Grants & Funding”).

FOR FURTHER INFORMATION CONTACT: drugfree@ncjrs.org.

SUPPLEMENTARY INFORMATION: The Drug-Free Communities Support Program was established by the Drug-Free Communities Act of 1997 (Pub. L. 105-20). The program was reauthorized for 5 years on December 14, 2001, and is now Pub. L. 107-82. The program is designed to strengthen community anti-drug coalitions and reduce substance abuse among youth.

Grantees will receive up to $100,000 in funding, in addition to training and technical assistance. These grants are to be used to address the two major goals of the Drug-Free Communities Support Program: (1) Reduce substance abuse among youth by reducing risk factors and promoting protective factors in the community and (2) establish and strengthen collaboration among communities, private nonprofit organizations, and Federal, State, local, and tribal governments to support the efforts of community coalitions to prevent and reduce substance abuse among youth.

Eligible applicants are community coalitions whose members have worked together on substance abuse reduction initiatives for a period of not less than 6 months and that meet all the coalition eligibility requirements outlined in the program announcement. The coalition will use entities such as task forces, subcommittees, community boards, and any other community resources that will enhance the coalition's collaborative efforts. With substantial participation from volunteer community leaders, the coalition will implement multi-sector, multi-strategy, long-term plans designed to reduce substance abuse among youth. Coalitions may be umbrella coalitions serving multi-county areas. No statewide grants will be awarded, however.

Authority: Pub. L. 105-20, 111 Stat. 225 (21 U.S.C. 1501, et seq.); Pub. L. 107-82, 115 Stat. 815, 21 U.S.C. 1521.

Gregory L. Dixon,
Administrator, Drug-Free Communities Support Program, Office of National Drug Control Policy.
William Woodruff,
Deputy Administrator, Office of Juvenile Justice and Delinquency Prevention.

[FR Doc. 02-33008 Filed 12-30-02; 8:45 am]

BILLING CODE 4410-18-P